NUCLEAR REGULATORY COMMISSION

Advisory Committee on Reactor Safeguards; Meeting Notice

In accordance with the purposes of sections 29 and 182b. of the Atomic Energy Act (42 U.S.C. 2039, 2232b), the Advisory Committee on Reactor Safeguards will hold a meeting on March 1-3, 2001, in Conference Room T-2B3, 11545 Rockville Pike, Rockville, Maryland. The date of this meeting was previously published in the Federal Register on Friday, November 17, 2000 (65 FR 69578).

Thursday, March 1, 2001

8:30 a.m.-8:35 a.m.: Opening Remarks by the ACRS Chairman—(Open)—The ACRS Chairman will make opening remarks regarding the conduct of the meeting.

8:35 a.m.-10 a.m.: RETRAN-3D Thermal-Hydraulic Transient Analysis Code (Open/Closed)-The Committee will hear presentations by and hold discussions with representatives of the Electric Power Research Institute (EPRI) and the NRC staff regarding the EPRI RETRAN-3D thermal-hydraulic transient analysis code, associated staff's Safety Evaluation Report, and resolution of issues previously raised by the ACRS.

Note: A portion of this session may be closed to discuss EPRI proprietary information.

10:15 a.m.-11:45 a.m.: Interim Review of the License Renewal Application for Arkansas Nuclear One, Unit 1 (Open)—The Committee will hear presentations by and hold discussions with representatives of the Entergy Operations, Inc., and the NRC staff regarding the license renewal application for Arkansas Nuclear One, Unit 1 and the associated staff's Safety Evaluation Report.

12:45 p.m.-2:15 p.m.: Spent Fuel Pool Accident Risk at Decommissioning Nuclear Power Plants (Open)—The Committee will hear presentations by and hold discussions with representatives of the NRC staff regarding significant findings and recommendations of the final report on spent fuel pool accident risk at decommissioning plants, new developments, status of developing proposed options, and related matters.

2:30 p.m.-3:45 p.m.: Management Directive 6.4 Associated with the Revised Generic Issue Process (Open)—The Committee will hear presentations by and hold discussions with representatives of the NRC staff regarding Management Directive 6.4 related to the Revised Generic Issue process, results of the case study performed to determine the effectiveness of using the Management Directive to implement the revised Generic Issue process, and related matters.

4 p.m.-7 p.m.: Discussion of Proposed ACRS Reports (Open)—The Committee will discuss proposed ACRS reports on the NRC Safety Research Program and on Regulatory Effectiveness of the Anticipated Transients Without Scram (ATWS) Rule.

Friday, March 2, 2001

8:30 a.m.-8:35 a.m.: Opening Remarks by the ACRS Chairman (Open)—The ACRS Chairman will make opening remarks regarding the conduct of the meeting.

8:35 a.m.-9:45 a.m.: British Nuclear Powered Submarine Incident (Closed)—The Committee will hear presentations by and hold discussions with representatives of the DOD/DOE Naval Reactors regarding the recent incident on the British Nuclear Powered Submarine (HMS TIRELESS).

Note: This session will be closed to discuss information classified “Confidential—Restricted Data—Government Sensitive”.

10 a.m.-11:30 a.m.: Operating Event at V.C. Summer Nuclear Station (Open)—The Committee will hear presentations by and hold discussions with representatives of the NRC staff regarding the October 7, 2000 incident at the V.C. Summer Nuclear Station, involving degraded reactor coolant system pressure boundary, findings and conclusions resulting from the staff's investigation of the incident, and corrective actions taken by the licensee and industry organizations.

11:30 a.m.-11:45 a.m.: Trip Report (Open)—The Committee will hear a trip report on the Nuclear Energy Institute (NEI) Fire Protection forum held in San Diego on February 5-7, 2001.

1 p.m.-1:30 p.m.: Subcommittee Report (Open)—Report by the Chairmen of the Plant Operations and Reliability and Probabilistic Assessment Subcommittees regarding the South Texas Project Exemption Request that was discussed during a meeting on February 21, 2001.

1:30 p.m.-2 p.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, and organizational and personnel matters relating to the ACRS.

2 p.m.-2:15 p.m.: Reconciliation of ACRS Comments and Recommendations (Open)—The Committee will discuss the responses from the NRC Executive Director for Operations (EDO) to comments and recommendations included in recent ACRS reports and letters. The EDO responses are expected to be made available to the Committee prior to the meeting.

2:15 p.m.-3 p.m.: Break and Preparation of Draft ACRS Reports (Open)—Cognizant ACRS members will prepare draft reports, as needed, for consideration by the full Committee.

3 p.m.-7 p.m.: Discussion of Proposed ACRS Reports (Open)—The Committee will discuss proposed ACRS reports.

Saturday, March 3, 2001

8:30 a.m.-12:30 p.m.: Proposed ACRS Reports (Open)—The Committee will continue its discussion of proposed ACRS reports.

12:30 p.m.-1 p.m.: Miscellaneous (Open)—The Committee will discuss matters related to the conduct of Committee activities and matters and specific issues that were not completed during previous meetings, as time and availability of information permit.

Procedures for the conduct of and participation in ACRS meetings were published in the Federal Register on October 11, 2000 (65 FR 60476). In accordance with these procedures, oral or written views may be presented by members of the public, including representatives of the nuclear industry. Electronic recordings will be permitted only during the open portions of the meeting and questions may be asked only by members of the Committee, its consultants, and staff. Persons desiring to make oral statements should notify Mr. James E. Lyons, ACRS, five days before the meeting, if possible, so that appropriate arrangements can be made to allow necessary time during the meeting for such statements. Use of still, motion picture, and television cameras during the meeting may be limited to selected portions of the meeting as determined by the Chairman. Information regarding the time to be set aside for this purpose may be obtained by contacting Mr. James E. Lyons prior to the meeting. In view of the possibility that the schedule for ACRS meetings may be adjusted by the Chairman as necessary to facilitate the conduct of the meeting, persons planning to attend should check with Mr. James E. Lyons if such rescheduling would result in major inconvenience.

In accordance with Subsection 10(d) P.L. 92-463, I have determined that it is necessary to close a portion of this meeting noted above to discuss proprietary information per 5 U.S.C. 552b(c)(4), and information classified “Confidential—Restricted Data—Government Sensitive” per 5 U.S.C. 552b(c)(1) and (4).

Further information regarding topics to be discussed, whether the meeting has been canceled or rescheduled, the Chairman's ruling on requests for the opportunity to present oral statements, and the time allotted therefore can be obtained by contacting Mr. James E. Lyons (telephone 301-415-7371), between 7:30 a.m. and 4:15 p.m., EST.

ACRS meeting agenda, meeting transcripts, and letter reports are available for downloading or viewing on the internet at http://www.nrc.gov/ACRSACNW.

Videoteleconferencing service is available for observing open sessions of ACRS meetings. Those wishing to use this service for observing ACRS meetings should contact Mr. Theron Brown, ACRS Audio Visual Technician (301-415-8066), between 7:30 a.m. and 3:45 p.m., EST, at least 10 days before the meeting to ensure the availability of this service. Individuals or organizations requesting this service will be responsible for telephone line charges and for providing the equipment facilities that they use to establish the videoteleconferencing link. The availability of videoteleconferencing services is not guaranteed.

Dated: February 12, 2001.
Andrew L. Bates,
Advisory Committee Management Officer.

[FR Doc. 01-3946 Filed 2-15-01; 8:45 am]

BILLING CODE 7590-01-P